DEPARTMENT OF COMMERCE

National Oceanic and Atmospheric Administration

RIN 0648-XD795

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council's (Council) Highly Migratory Species (HMS) Committee will hold a public meeting.

DATES: The meeting will be held Tuesday, March 17, 2015, at 10 a.m. For agenda details, see SUPPLEMENTARY INFORMATION.

ADDRESSES: The meeting will be held via internet webinar. A webinar link will be available on the Council's Web page, www.mafmc.org. Interested parties may also come to the Council address below to access the webinar if they contact the Council at least 24 hours before the meeting.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar access, and briefing materials.

SUPPLEMENTARY INFORMATION: The following items are on the agenda, though agenda items may be addressed out of order (changes will be noted on the Council's Web site when possible).

Tuesday, March 17, 2015, 10 a.m.

NMFS HMS staff will make a presentation regarding Amendment 6 to the 2006 Consolidated HMS Fishery Management Plan for Management of Atlantic Sharks, which published in the Federal Register on January 20, 2015 (80 FR 2648) and has a comment due date of April 3, 2015 (www.regulations.gov/#!docketDetail;D=NOAA-NMFS-2010-0188). The Council's HMS Committee will then develop comments on the Amendment and consider if any additional actions are appropriate.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aid should be directed to M. Jan Saunders, (302) 526-5251, at least 5 days prior to the meeting date.

Dated: February 24, 2015.
Tracey L. Thompson,
Acting Deputy Director, Office of Sustainable Fisheries, National Marine Fisheries Service.

[FR Doc. 2015-04208 Filed 2-27-15; 8:45 am]

BILLING CODE 3510-22-P